DEPARTMENT OF THE INTERIOR

Bureau of Land Management

[LLNML00000 L13300000.EP0000 14XL1109AF]

Notice of Extension of Temporary Closure of Public Land in Doña Ana County, NM

AGENCY: Bureau of Land Management, Interior.

ACTION: Notice.

SUMMARY: The Bureau of Land Management (BLM), Las Cruces District Office is extending a temporary closure of public land in the vicinity of the Community Pit No. 1 in Doña Ana County, New Mexico, in order to protect persons, property, and public lands and resources.

DATES: This closure will be in effect on September 15, 2014 and shall remain in effect for up to 24 months, or until a final decision is made in the TriCounty Resource Management Plan (RMP), whichever is sooner.

FOR FURTHER INFORMATION CONTACT: Edward Seum, Supervisor, Lands and Minerals, BLM Las Cruces District Office, 1800 Marquess Street, Las Cruces, NM 88005; or by telephone at 575-525-4300. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The TriCounty RMP is analyzing a range of alternatives, including an alternative that would close the 67.5-acre Community Pit No.1 until physical remediation of the high, unconsolidated walls has occurred, thereby eliminating the public health and safety risk. Pursuant to a temporary closure that published in the Federal Register on July 23, 2012 (77 FR 43111), the area was closed to casual use to protect persons, property, and public land and resources, and generally to provide for public safety. The extension of the closure is needed to reduce or prevent the opportunity for damage to property, personal injury, or loss of life in the vicinity of the Community Pit No. 1 in Doña Ana County, New Mexico. The temporary closure and restrictions applicable to the closure are as follows:

1. The public land to be closed under this notice is described as:

New Mexico Principal Meridian, New Mexico

T. 22 S., R. 1 E.,

Sec. 19, SW¼NW¼SE¼, E½E½SW¼SW¼SE¼, E½SW¼SE¼, S½N½SE¼SE¼, S½SE¼SE¼, E½NW¼SW¼SE¼.

Containing 67.5 acres. Any area described as a half (1/2) of a half (1/2) is based on the proper subdivision of section in accordance with the Manual of Surveying Instructions.

All public use, including casual use, is prohibited on this 67.5-acre parcel. Casual use is defined as any short-term, non-commercial activity which does not noticeably damage or disturb the public land, resources, or improvements. Closure of this parcel is a consequence of unsafe conditions related to past mining resulting in steep high walls in excess of 150 feet, abrupt precipices and ledges, and loose unconsolidated walls of rock.

2. This closure does not affect the ability of local, State, or Federal officials in the performance of their duties in the area.

3. This Notice will be posted along the public roads where this closure is in effect.

4. The following persons are exempt from this closure order:

a. Federal, State, or local law enforcement officers, while acting within the scope of their official duties; and

b. Any person who obtains, or currently is in possession of, an authorization or permit from the BLM for use of the land identified in this closure.

Violations of this closure and restrictions are punishable by fines not to exceed $1,000 and/or imprisonment not to exceed 1 year. These actions are taken to protect public health and safety.

The Las Cruces District Office has completed an Environmental Assessment (EA) (DOI-BLM-NM-LCDO-2010-0086-EA) to close the pit to public use, evaluating the potential reclamation of the site and analyzing the hazards to public health and safety until such time as reclamation of the site would be completed.

Copies of this closure order and maps showing the location are available from the Las Cruces District Office, 1800 Marquess Street, Las Cruces, NM 88005.

Authority: 43 CFR 8364.1 and 18 U.S.C. 3551.

Jesse J. Juen,
State Director.

[FR Doc. 2014-19217 Filed 8-13-14; 8:45 am]

BILLING CODE 4310-FB-P